DEPARTMENT OF TRANSPORTATION

Federal Aviation Administration

Orders Limiting Operations at John F. Kennedy International Airport, LaGuardia Airport and Newark Liberty International Airport

AGENCY: Federal Aviation Administration (FAA), DOT.

ACTION: Notice of availability of limited waiver of the slot usage requirement.

SUMMARY: This action announces a limited waiver of the requirement to use Operating Authorizations (slots) at John F. Kennedy International Airport, LaGuardia Airport, and Newark Liberty International Airport due to significant impacts of winter weather in January 2016. This policy is effective from January 22, 2016, through January 26, 2016. Carriers who seek to obtain a waiver must submit information on flight cancellations and the slots for which relief is requested.

DATES: Effective Date: Effective upon publication.

FOR FURTHER INFORMATION CONTACT: For questions concerning this Notice contact: Susan Pfingstler, System Operations Services, Air Traffic Organization, Federal Aviation Administration, 600 Independence Avenue SW., Washington, DC 20591; telephone (202) 267-6462; email susan.pfingstler@faa.gov.

SUPPLEMENTARY INFORMATION:

Background

Under the FAA's Orders limiting operations at John F. Kennedy International Airport (JFK), New York LaGuardia Airport (LGA), and Newark Liberty International Airport (EWR), slots must be used at least 80 percent of the time.¹ This usage requirement is expected to accommodate routine cancellations under all but the most unusual circumstances. Slots not meeting the minimum usage rules will be withdrawn or not receive historic precedence for the following scheduling season, depending on the airport. The FAA may grant a waiver from the minimum usage requirement in highly unusual and unpredictable conditions that are beyond the control of the carrier and affect carrier operations for five or more consecutive days at JFK, LGA, and EWR.

¹ Operating Limitations at John F. Kennedy International Airport, 79 FR 16855 (March 26, 2014). Operating Limitations at New York LaGuardia Airport, 79 FR 17223 (March 26, 2014). Operating Limitation at Newark Liberty International Airport, 79 FR 16.859 (March 26, 2014).

Recent weather on the East Coast severely disrupted aviation and other modes of transportation. A winter storm from January 22 to January 24, 2016, impacting the mid-Atlantic and Northeast regions, resulted in record snowfall levels in several locations, including the New York City area. The storm impacted a widespread area in the eastern U.S., including airports with regularly scheduled flights to or from the New York City area. The storm resulted in reduced airport capacity due to snow accumulation on runways and taxiways. Further, this storm covered a wide geographical area and impacted capacity and operations at outlying airports with service to EWR, JFK, and LGA.

Carriers responded to the forecasted storm by proactively cancelling flights to avoid stranding passengers, to minimize the number of aircraft on the ground at airports affected by the storm, and to position aircraft and crews to implement network recovery plans and resume normal operations as soon as possible. Cumulative effects from the storm impacted operations for some carriers until January 26, 2016.

FAA operational data (OPSNET) on the number of actual air carrier and air taxi operations at EWR, JFK, and LGA indicate flight cancellations began on January 22 and the impacts were most significant on Saturday, January 23 and Sunday, January 24. On January 22, about 20 percent of EWR and LGA flights were cancelled compared to other Fridays in January while about ten percent of JFK flights were cancelled. On January 23, EWR had 18 air carrier and air taxi operations, JFK had 58 and LGA had three. On January 24, EWR had 67 air carrier and air taxi operations, JFK had 447, and LGA had 107. On January 25 and 26, EWR had less than 60 percent of typical January traffic levels while snow removal efforts continued. All three airports were at typical operation levels by Wednesday, January 27. Consequently, some carriers have advised the FAA of plans to request a waiver of the minimum slot usage requirements due to the number of flight cancellations and the extent and duration of disruptions.

Statement of Policy

The FAA has determined that the facts described above meet the criteria for a limited waiver of the minimum slot usage requirement. The winter storm caused cumulative effects with operational disruptions that impacted carriers at the New York City area slot controlled airports lasting five consecutive days. The FAA believes the impact of this storm on air travel constitutes unusual and unpredictable circumstances.

The FAA has determined that adopting a policy setting forth conditions for a waiver of the usage policy during the January 22-26, 2016, period is warranted in these circumstances. However, this waiver will apply only to flights that were scheduled to operate on one or more of the impacted days. A carrier seeking to obtain the relief consistent with this Notice is required to submit detailed information regarding scheduled flights, cancellations, and the associated slots at each airport for each day relief is requested, as discussed further in this Notice.

As the FAA has stated previously, waivers to the usage requirements will not be granted routinely. Slot rules allow for up to 20 percent nonuse, including planned and unplanned cancellations. This is expected to accommodate weather and other cancellations or planned non-use of slots under all but the most unusual circumstances. Carriers should plan schedules in order to meet the minimum usage requirement.

Consistent with this Notice, the FAA will treat as used, any slot allocated to a carrier on January 22 through 26, 2016, for which there was a planned flight that was subsequently cancelled. A waiver will not apply to slots without a corresponding scheduled flight as the carrier should have already factored nonuse on those days into their usage plans. In order to obtain a waiver under this policy, a carrier must provide a list of the cancelled flights at each slot-controlled airport, including the reported slot identification number, operating carrier, flight number, date, scheduled time of operation, scheduled origin or destination airport, and the diversion airport, if applicable.

Carriers must submit the detailed slot and flight information to the FAA Slot Administration Office by email to 7-awa-slotadmin@faa.gov. Carriers at LGA, which reported usage in mid-March, will have until April 8, 2016, to submit additional information to request a waiver under the terms of this Notice. At JFK and EWR, usage reports for the winter 2015-2016 scheduling season are due by April 25, 2016. Carriers at JFK and EWR must request a waiver request under this Notice by the due date of the reports. The FAA will review the submission to determine if it meets the terms of this limited waiver. Based on the submitted information, the FAA will respond to individual carriers via email confirming the slots that will be treated as used under this policy.

Issued in Washington, DC, on March 21, 2016.
Lorelei Peter,
Assistant Chief Counsel for Regulations.

[FR Doc. 2016-06692 Filed 3-23-16; 8:45 am]

BILLING CODE 4910-13-P